NATIONAL ARCHIVES AND RECORDS ADMINISTRATION

Advisory Committee on the Electronic Records Archives (ACERA)

AGENCY: National Archives and Records Administration.

ACTION: Notice of meeting.

SUMMARY: In accordance with the Federal Advisory Committee Act, as amended (5 U.S.C. Appendix 2), the National Archives and Records Administration (NARA) announces a meeting of the Advisory Committee on the Electronic Records Archives (ACERA). The committee serves as a deliberative body to advise the Archivist of the United States, on technical, mission, and service issues related to the Electronic Records Archives (ERA). This includes, but is not limited to, advising and making recommendations to the Archivist on issues related to the development, implementation and use of the ERA system. This meeting will be open to the public. This meeting will take place via AT&T Connect web conference. Members of the public who would like to join the proceedings should contact Kimberly Scates, Information Services, National Archives and Records Administration, by April 26, 2013 to register and obtain access information. Ms. Scates can be reached via email at kimberly.scates@nara.gov or by phone at (301) 837-3176. This meeting will be recorded for transcription purposes.

DATES: The meeting will be held on April 30, 1:00 p.m.-4:00 p.m.

FOR FURTHER INFORMATION CONTACT: Kimberly Scates, Information Services, National Archives and Records Administration, 8601 Adelphi Road, College Park, Maryland 20740 (301) 837-3176.

SUPPLEMENTARY INFORMATION:

Agenda

• Opening Remarks

• Approval of Minutes

• ERA Program Update

• Discussions:

○ Strategic considerations for the National Archives in planning the future of ERA and our electronic records programs, and

○ soliciting input from outside NARA on electronic records issues and ERA planning

• Adjournment

Dated: April 8, 2013.
Patrice Little Murray,
Acting Committee Management Officer.

[FR Doc. 2013-08773 Filed 4-12-13; 8:45 am]

BILLING CODE 7515-01-P